DEPARTMENT OF TRANSPORTATION

Federal Aviation Administration

14 CFR Part 39

[Docket No. FAA-2016-7425; Directorate Identifier 2014-NM-244-AD]

RIN 2120-AA64

Airworthiness Directives; Airbus Airplanes

AGENCY: Federal Aviation Administration (FAA), DOT.

ACTION: Notice of proposed rulemaking (NPRM).

SUMMARY: We propose to supersede Airworthiness Directive (AD) 2011-17-05, for certain Airbus Model A300 B2-1C, A300 B2-203, A300 B2K-3C, A300-B4-103, A300 B4-203, and A300 B4-2C airplanes. AD 2011-17-05 currently requires repetitive inspections in sections 13 through 18 of the fuselage between rivets of the longitudinal lap joints between frames (FR) 18 and 80 for cracking, and repair or modification if necessary. Since we issued AD 2011-17-05, we have determined that a revised inspection program is necessary. This proposed AD would include a revised repetitive inspection program of all longitudinal lap joints and repairs between frames 18 and 80 to address this widespread fatigue damage (WFD). We are proposing this AD to detect and correct fatigue cracking of the longitudinal lap joints of the fuselage, which could result in reduced structural integrity of the airplane.

DATES: We must receive comments on this proposed AD by August 22, 2016.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-7425; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425- 227-1149.

SUPPLEMENTARY INFORMATION:

Comments Invited

We invite you to send any written relevant data, views, or arguments about this proposed AD. Send your comments to an address listed under the ADDRESSES section. Include “Docket No. FAA-2016-7425; Directorate Identifier 2014-NM-244-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 23, 2011, we issued AD 2011-17-05, Amendment 39-16769 (76 FR 63177, October 12, 2011) (“AD 2011-17-05”). AD 2011-17-05 requires actions intended to address an unsafe condition on certain Airbus Model A300 B2-1C, A300 B2-203, A300 B2K-3C, A300-B4-103, A300 B4-203, and A300 B4-2C airplanes.

Since we issued AD 2011-17-05, we have determined it is necessary to require a revised inspection program for the longitudinal lap joints and repairs between FR 18 and FR 80 because additional cracking was found in an expanded area.

The European Aviation Safety Agency (EASA), which is the Technical Agent for the Member States of the European Union, has issued EASA Airworthiness Directive 2014-0265, dated December 9, 2014 (referred to after this as the Mandatory Continuing Airworthiness Information, or “the MCAI”), to correct an unsafe condition for the specified products. The MCAI states:

Cracks were found on in-service aeroplanes in sections 13 to 18 of the fuselage between rivets of longitudinal lap joints between frames (FR) 18 and FR80.

This condition, if not detected and corrected, could affect the structural integrity of the aeroplane.

To address this unsafe condition, Airbus developed an inspection programme for the longitudinal lap joints and repairs between FR18 and FR80, and EASA issued AD 2007-0091 [which corresponds to FAA AD 2011-17-05] to require the implementation of that programme.

Since EASA AD 2007-0091 was issued, [a] new Widespread Fatigue Damage regulation has been issued. This new regulation led to the revision of the maintenance programme for the longitudinal lap joints and repairs between FR18 and FR80.

For the reasons described above, this [EASA] AD retains the requirements of EASA AD 2007-0091, which is superseded, and requires implementation of the revised inspection programme.

Required actions include repetitive inspections of the bonded inner doublers of the longitudinal lap joints in sections 13 through 18 for disbonding or corrosion, and repairing any disbonding and corrosion; a follow-on rototest or ultrasonic inspection to verify cracking, and repair of any cracking. The repetitive inspection interval ranges from 3,000 flight cycles up to 8,000 flight cycles, depending on airplane configuration. You may examine the MCAI in the AD docket on the Internet at http://www.regulations.gov by searching for and locating it in Docket No. FAA-2016-7425.

Widespread Fatigue Damage

Fatigue damage can occur locally, in small areas or structural design details, or globally, in widespread areas. Multiple-site damage is widespread damage that occurs in a large structural element such as a single rivet line of a lap splice joining two large skin panels. Widespread damage can also occur in multiple elements such as adjacent frames or stringers. Multiple-site damage and multiple-element damage cracks are typically too small initially to be reliably detected with normal inspection methods. Without intervention, these cracks will grow, and eventually compromise the structural integrity of the airplane. This condition is known as widespread fatigue damage. It is associated with general degradation of large areas of structure with similar structural details and stress levels. As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all of these airplanes that will be certificated in the future. For existing and future airplanes subject to the WFD rule, the rule requires that DAHs establish a limit of validity (LOV) of the engineering data that support the structural maintenance program. Operators affected by the WFD rule may not fly an airplane beyond its LOV, unless an extended LOV is approved.

The WFD rule (75 FR 69746, November 15, 2010) does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

We are issuing this AD to detect and correct fatigue cracking of the longitudinal lap joints of the fuselage, which could result in reduced structural integrity of the airplane.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Unlike the procedures described in the service information, this proposed AD would not permit further flight if cracks are detected. We have determined that, because of the safety implications and consequences associated with that cracking, any cracked upper shell structure must be repaired before further flight.

The MCAI refers to Airbus Service Bulletin A300-53-0211, Revision 08, dated November 26, 2013, for compliance times and for the new inspections. However, paragraph (l) of this proposed AD would require operators to do the initial inspections within 180 days after the effective date of this AD, in a method approved by the Manager, International Branch, ANM-116, Transport Airplane Directorate, FAA; or the European Aviation Safety Agency (EASA); or Airbus's EASA Design Organization Approval (DOA); and thereafter at intervals approved by the Manager, International Branch, ANM-116, Transport Airplane Directorate, FAA; or EASA; or Airbus's EASA DOA. We find that 180 days is an appropriate amount of time to accomplish the initial inspections and address the unsafe condition.

These differences have been coordinated with the EASA and Airbus.

Costs of Compliance

We estimate that this proposed AD affects 4 airplanes of U.S. registry.

Estimated Costs
Action | Labor cost | Cost per product | Cost on U.S. operators
Retained actions from AD 2011-17-05 (5 airplanes) | 3,735 work-hours × $85 per hour = $317,475 | $317,475 | $1,587,375
New proposed inspections (4 airplanes) | 140 work-hours × $85 per hour = $11,900 | 11,900 | 47,600

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-17-05, Amendment 39-16769 (76 FR 63177, October 12, 2011), and adding the following new AD:

Airbus: Docket No. FAA-2016-7425; Directorate Identifier 2014-NM-244-AD.

(a) Comments Due Date

We must receive comments by August 22, 2016.

(b) Affected ADs

This AD replaces AD 2011-17-05, Amendment 39-16769 (76 FR 63177, October 12, 2011) (“AD 2011-17-05”).

(c) Applicability

This AD applies to Airbus Model A300 B2-1C, A300 B2-203, A300 B2K-3C, A300-B4-103, A300 B4-203, and A300 B4-2C airplanes; certificated in any category; all manufacturer serial numbers, except those on which Airbus Modification 2611 has been embodied in production.

(d) Subject

Air Transport Association (ATA) of America Code 53, Fuselage.

(e) Reason

This AD was prompted by an evaluation done by the design approval holder indicating that certain sections of the longitudinal lap joints are subject to widespread fatigue damage. We are issuing this AD to detect and correct fatigue cracking of the longitudinal lap joints of the fuselage, which could result in reduced structural integrity of the airplane.

(f) Compliance

Comply with this AD within the compliance times specified, unless already done.

(g) Retained Fuselage Inner Doubler Inspections and Repair, With Revised Formatting

This paragraph restates the requirements of paragraph (l) of AD 2011-17-05, with revised formatting. For airplanes on which any inspections of the fuselage bonded inner doublers of the longitudinal lap joints in Sections 13 through 18 (except Sections 16 and 17 at Stringer 31 left-hand and right-hand) for disbonding and cracking have not been done as of November 16, 2011 (the effective date of AD 2011-17-05), as specified by Airbus Service Bulletin A300-53-229: Prior to the accumulation of 24,000 total flight cycles or within 15 years since new, whichever occurs first; or within 60 days after November 16, 2011; whichever occurs later; do a detailed inspection of the fuselage bonded inner doublers of the longitudinal lap joints in Sections 13 through 18 (except Sections 16 and 17 at Stringer 31 left-hand and right-hand) for disbonding and cracking, in accordance with the Accomplishment Instructions of Airbus Service Bulletin A300-53-229, Revision 5, dated April 8, 1997. If no disbonding and no cracking are found, repeat the inspection thereafter at the applicable intervals specified in paragraph (h) of this AD.

(1) If no cracking is found, and “minor” disbonding, as defined in Airbus Service Bulletin A300-53-229, Revision 5, dated April 8, 1997, is found: Repeat the inspection thereafter at intervals not to exceed 1 year for areas below stringer 22, and at intervals not to exceed 2 years for areas above and including stringer 22.

(2) If no cracking is found, and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(h) Retained Repetitive Intervals for Inspections for Disbonding and Cracking

This paragraph restates the repetitive intervals specified in table 1 of AD 2011-17-05. At the applicable time specified in paragraph (h)(1) or (h)(2) of this AD, repeat the inspection required by paragraph (g) of this AD.

(1) For Sections 13 and 14 as specified in Airbus Service Bulletin A300-53-229, Revision 5, dated April 8, 1997: Repeat the inspection at intervals not to exceed 7 years or 12,000 flight cycles, whichever occurs first.

(2) For Sections 15 through 18 as specified in Airbus Service Bulletin A300-53-229, Revision 5, dated April 8, 1997: Repeat the inspection within 8.5 years or 12,000 flight cycles, whichever occurs first.

(i) Retained Fuselage Inner Doubler Inspections and Repair

This paragraph restates the requirements of paragraph (m) of AD 2011-17-05. For airplanes on which any inspections of the fuselage bonded inner doublers of the longitudinal lap joints in Sections 13 through 18 (except Sections 16 and 17 at Stringer 31 left-hand and right-hand) for disbonding and cracking have been done as of November 16, 2011 (the effective date of AD 2011-17-05), as specified in Airbus Service Bulletin A300-53-229; except for airplanes on which a repair of that area has been done as specified in Airbus Service Bulletin A300-53-229: Within 7 years or 12,000 flight cycles (for Sections 13 and 14), or within 8.5 years or 12,000 flight cycles (for Sections 15 and 18), after doing the inspection, whichever occurs first; or within 60 days after November 16, 2011, whichever occurs later, do a detailed inspection of the fuselage bonded inner doublers of the longitudinal lap joints in Sections 13 through 18 (except Sections 16 and 17 at Stringer 31 left-hand and right-hand) for disbonding and cracking, in accordance with the Accomplishment Instructions of Airbus Service Bulletin A300-53-229, Revision 5, dated April 8, 1997. If no disbonding and no cracking are found, repeat the inspection at the applicable time specified in paragraph (h) of this AD.

(1) If no cracking is found, and “minor” disbonding, as defined in Airbus Service Bulletin A300-53-229, Revision 5, dated April 8, 1997, is found: Repeat the inspection thereafter at intervals not to exceed 1 year for areas below stringer 22, and at intervals not to exceed 2 years for areas above and including stringer 22.

(2) If no cracking is found, and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(j) Retained Fuselage Inner Doubler Inspections and Repair, With No Changes

This paragraph restates the requirements of paragraph (n) of AD 2011-17-05, with no changes. For airplanes on which any inspections of the fuselage bonded inner doublers of the longitudinal lap joints in Sections 16 and 17 at Stringer 31 left-hand and right-hand for disbonding and cracking have not been done as of November 16, 2011 (the effective date of AD 2011-17-05), as specified in Airbus Service Bulletin A300-53-229: Prior to the accumulation of 24,000 total flight cycles or within 12 years since new, whichever occurs first; or within 60 days after November 16, 2011, whichever occurs later, do a detailed inspection of the fuselage bonded inner doubles of the longitudinal lap joints in Sections 16 and 17 at Stringer 31 left-hand and right-hand for disbonding and cracking, in accordance with the Accomplishment Instructions of Airbus Service Bulletin A300-53-229, Revision 5, dated April 8, 1997. If no disbonding and no cracking are found, repeat the inspection thereafter at intervals not to exceed 7 years or 12,000 flight cycles, whichever occurs first.

(1) If no cracking is found, and “minor” disbonding, as defined in Airbus Service Bulletin A300-53-229, Revision 5, dated April 8, 1997, is found: Repeat the inspection thereafter at intervals not to exceed 1 year for areas below stringer 22, and at intervals not to exceed 2 years for areas above and including stringer 22. Doing a repair in accordance with Airbus Service Bulletin A300-53-229, Revision 5, dated April 8, 1997, terminates the repetitive inspections required by this paragraph for that area.

(2) If no cracking is found, and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(k) Retained Fuselage Inner Doubler Inspections and Repair, With No Changes

This paragraph restates the requirements of paragraph (o) of AD 2011-17-05, with no changes. For airplanes on which any inspections of the fuselage bonded inner doublers of the longitudinal lap joints in Sections 16 and 17 at Stringer 31 left-hand and right-hand for disbonding and cracking have been done as of November 16, 2011, as specified in Airbus Service Bulletin A300-53-229; except airplanes on which a repair of that area has been done as specified in Airbus Service Bulletin A300-53-229: Within 7 years or 12,000 flight cycles after doing the inspection, whichever occurs first; or within 60 days after November 16, 2011; whichever occurs later; do a detailed inspection of the fuselage bonded inner doubles of the longitudinal lap joints in Sections 16 and 17 at Stringer 31 left-hand and right-hand for disbonding and cracking, in accordance with the Accomplishment Instructions of Airbus Service Bulletin A300-53-229, Revision 5, dated April 8, 1997. If no disbonding and no corrosion are found, repeat the inspection thereafter at intervals not to exceed 7 years or 12,000 flight cycles, whichever occurs first.

(1) If no cracking is found, and “minor” disbonding, as defined in Airbus Service Bulletin A300-53-229, Revision 5, dated April 8, 1997, is found: Repeat the inspection thereafter at intervals not to exceed 1 year for areas below stringer 22, and at intervals not to exceed 2 years for areas above and including stringer 22. Doing a repair, in accordance with Airbus Service Bulletin A300-53-229, Revision 5, dated April 8, 1997, terminates the repetitive inspections required by this paragraph for that area.

(2) If no cracking is found, and “major” disbonding, as defined in Airbus Service Bulletin A300-53-229, Revision 5, dated April 8, 1997, is found: Within 1,000 flight cycles after doing the inspection, repair, in accordance with the Accomplishment Instructions of Airbus Service Bulletin A300-53-229, Revision 5, dated April 8, 1997.

(3) If any cracking is found, repair prior to further flight, in accordance with Airbus Service Bulletin A300-53-229, Revision 5, dated April 8, 1997.

(l) New Repetitive Inspections and Repair

Within 180 days after the effective date of this AD, do rototest and ultrasonic inspections, as applicable, for cracking of all longitudinal lap joints and repairs between frames 18 and 80; and repair any cracking before further flight; using a method approved by the Manager, International Branch, ANM-116, Transport Airplane Directorate, FAA; or the European Aviation Safety Agency (EASA); or Airbus's EASA Design Organization Approval (DOA). Repeat the applicable inspection, including post-repair inspections, thereafter at intervals approved by the Manager, International Branch, ANM-116, Transport Airplane Directorate, FAA; or EASA; or Airbus's EASA DOA. Accomplishing the initial inspection and applicable repairs required by this paragraph terminates the actions required by paragraphs (g) through (k) of this AD.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(n) Related Information

(1) Refer to Mandatory Continuing Airworthiness Information (MCAI) EASA Airworthiness Directive 2014-0265, dated December 9, 2014, for related information. This MCAI may be found in the AD docket on the Internet at http://www.regulations.gov by searching for and locating Docket No. FAA-2016-7425.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on June 23, 2016.
Dorr M. Anderson,
Acting Manager, Transport Airplane Directorate, Aircraft Certification Service.

[FR Doc. 2016-15910 Filed 7-6-16; 8:45 am]

BILLING CODE 4910-13-P